DEPARTMENT OF THE INTERIOR

Fish and Wildlife Service

[FWS-R9-IA-2011-N094;96300-1671-0000-P5]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
058670, 068239, 068240, 13186A, 13187A, and 13188A | Hawthorn Corporation | 75 FR 63196; October 14, 2010 | March 31, 2011.
21862A | Chicago Zoological Society dba Brookfield Zoo | 76 FR 12990; March 9, 2011 | April 21, 2011.
24269A | Chelonian Research Institute | 75 FR 62139; October 7, 2010 | March 31, 2011.
33990A | Allan Smith | 76 FR 7580; February 10, 2011 | March 25, 2011.
35237A | Harold Rank | 76 FR 10623; February 25, 2011 | March 28, 2011.
34141A | Nicholas Andreola | 76 FR 10623; February 25, 2011 | March 31, 2011.
35221A | Jeffrey L. Bearden | 76 FR 10623; February 25, 2011 | March 31, 2011.
30984A | U.S. Food and Drug Administration, Center fir Food Safety and Applied Nutrition | 76 FR 2408; January 13, 2011 | April 6, 2011.
35246A | James McArtor | 76 FR 12990; March 9, 2011 | April 14, 2011.
Marine Mammals
690038 | U.S. Geological Survey, Alaska Science Center | 76 FR 7580; February 10, 2011 | April 20, 2011.
19806A | Thomas Postel | 75 FR 78731; December 16, 2010 | May 6, 2011.

Availability of Documents

Documents and other information submitted with these applications are available for review, subject to the requirements of the Privacy Act and Freedom of Information Act, by any party who submits a written request for a copy of such documents to:

Dated: May 6, 2011.
Brenda Tapia,
Program Analyst/Data Administrator, Branch of Permits, Division of Management Authority.

[FR Doc. 2011-11706 Filed 5-11-11; 8:45 am]

BILLING CODE 4310-55-P